DEPARTMENT OF AGRICULTURE

Agricultural Marketing Service

[Doc. No. TM-07-01]

Notice of Funds Availability (NOFA) Inviting Applications for the Federal-State Marketing Improvement Program (FSMIP); Notice of Request for Emergency Review and Approval of a New Information Collection

AGENCY: Agricultural Marketing Service, USDA.

ACTION: Notice.

SUMMARY: The Agricultural Marketing Service (AMS) announces the availability of approximately $1.3 million in competitive grant funds for fiscal year 2007 to enable States to explore new market opportunities for U.S. food and agricultural products and to encourage research and innovation aimed at improving the efficiency and performance of the U.S. marketing system. Eligible applicants include State departments of agriculture, State agricultural experiment stations, and other appropriate State Agencies. Applicants are encouraged to involve industry groups, academia, community-based organizations, and other stakeholders in developing proposals and conducting projects. In accordance with the Paperwork Reduction Act of 1995, (44 U.S.C. Chapter 35), AMS is requesting emergency review and approval of a new information collection.

DATES: Proposals will be accepted through February 12, 2007. Comments regarding the information collection requirement under the Paperwork Reduction Act of 1995 must be received on or before December 26, 2006.

ADDRESSES: Submit proposals and other required documents to: FSMIP Staff Officer, Transportation and Marketing Programs, Agricultural Marketing Service (AMS), U.S. Department of Agriculture, 1400 Independence Avenue, SW., Room 4009 South Building, Washington, DC 20250; telephone (202) 720-8043; e-mail janise.zygmont@usda.gov.

Comments concerning the information collection requirements should be sent to the Office of Information and Regulatory Affairs, OMB: Attention: Desk Officer for AMS, Washington, DC 20503. Please indicate that your comments refer to Docket No. TM-07-01. Comments concerning the information collection requirements also should be sent to the FSMIP Staff Officer at the above address.

FOR FURTHER INFORMATION CONTACT: Janise Zygmont, FSMIP Staff Officer; telephone (202) 720-8043; fax (202) 690-4948; or e-mail janise.zygmont@usda.gov.

SUPPLEMENTARY INFORMATION: FSMIP is authorized under Section 204(b) of the Agricultural Marketing Act of 1946 (7 U.S.C. 1621 et seq.). FSMIP provides matching grants on a competitive basis to enable States to explore new market opportunities for U.S. food and agricultural products and to encourage research and innovation aimed at improving the efficiency and performance of the U.S. marketing system. Eligible applicants include State departments of agriculture, State agricultural experiment stations, and other appropriate State agencies. Other organizations interested in participating in this program should contact their State Department of Agriculture's Marketing Division. State agencies specifically named under the authorizing legislation should assume the lead role in FSMIP projects, and use cooperative or contractual linkages with other agencies, universities, institutions, and producer, industry or community-based organizations as appropriate. Multi-State projects are encouraged as long as one State assumes the coordinating role, using appropriate cooperative arrangements with the other States involved.

Proposals must be accompanied by completed Standard Forms (SF) 424 and 424A. AMS will not approve the use of FSMIP funds for advertising or, with limited exceptions, for the purchase of equipment. Detailed program guidelines may be obtained from the contact listed above, and are available at the FSMIP Web site: http://www.ams.usda.gov/tmd/fsmip.htm.

Background

FSMIP funds a wide range of applied research projects that address barriers, challenges, and opportunities in marketing, transportation, and distribution of U.S. food and agricultural products domestically and internationally.

Eligible agricultural categories include livestock, livestock products, food and feed crops, fish and shellfish, horticulture, viticulture, apiary, and forest products and processed or manufactured products derived from such commodities. Reflecting the growing diversity of U.S. agriculture, in recent years, FSMIP has funded projects dealing with nutraceuticals, bioenergy, compost, and products made from agricultural residues.

Proposals may deal with barriers, challenges, or opportunities manifesting at any stage of the marketing chain including direct, wholesale, and retail. Proposals may involve small, medium, or large scale agricultural entities but should potentially benefit multiple producers or agribusinesses. Proprietary proposals that benefit one business or individual will not be considered.

Proposals that address issues of importance at the State, regional or national level are appropriate for FSMIP. FSMIP also seeks unique proposals on a smaller scale that may serve as pilot projects or case studies useful as a model for other States. Of particular interest are proposals that reflect a collaborative approach among the States, academia, the farm sector and other appropriate entities and stakeholders. FSMIP's enabling legislation authorizes projects to:

• Determine the best methods for processing, preparing for market, packing, handling, transporting, storing, distributing, and marketing agricultural products.

• Determine the costs of marketing agricultural products in their various forms and through various channels.

• Assist in the development of more efficient marketing methods, practices, and facilities to bring about more efficient and orderly marketing, and reduce the price spread between the producer and the consumer.

• Develop and improve standards of quality, condition, quantity, grade, and packaging in order to encourage uniformity and consistency in commercial practices.

• Eliminate artificial barriers to the free movement of agricultural products in commercial channels.

• Foster new/expanded domestic/foreign markets and new/expanded uses of agricultural products.

• Collect and disseminate marketing information to anticipate and meet consumer requirements, maintain farm income, and balance production and utilization.

Paperwork Reduction Act

In accordance with the Paperwork Reduction Act of 1995 (44 U.S.C. Chapter 35), this notice announces that AMS is requesting emergency review and approval from the Office of Management and Budget of a new information collection.

Title: Federal-State Marketing Improvement Program (FSMIP).

OMB Number: 0581-NEW.

Type of Request: Approval of a new information collection.

Expiration Date of Approval: 3 years from date of OMB approval.

Estimate of Burden: The public reporting and recordkeeping burden for this collection of information is estimated to total 4,730 hours.

Abstract: The primary objective of FSMIP is to enable States to explore new market opportunities for U.S. food and agricultural products and to encourage research and innovation aimed at improving the efficiency and performance of the U.S. marketing system. Eligible entities under this program include State departments of agriculture, State agricultural experiment stations, and other appropriate State Agencies.

AMS has established guidelines that contain full details about FSMIP and the application process. The guidelines and application forms are available from the FSMIP Staff Officer by calling 202/720-8043, faxing 202/690-4948, or e-mailing to janise.zygmont@usda.gov. This information is also available at the FSMIP Web site: http://www.ams.usda.gov/tmd/fsmip.htm. Eligible entities are strongly encouraged to follow the guidelines when preparing applications for submission to the FSMIP.

FSMIP applicants must complete Form SF-424, “Application for Federal Assistance” (approved under OMB #4040-0004), for each application. Form SF-424A, “Budget Information—Non-Construction Programs” (approved under OMB #0348-0044), also must be completed for each application to show the project's budget breakdown, both with regard to expense categories and the division between Federal and matching non-Federal sources, as applicable. A Proposal Narrative is also required for each application.

AMS needs to receive the information contained in this collection of information to select the projects that will best meet and fulfill FSMIP program objectives. The selection process is competitive and AMS must ensure that limited funds are used for the intended purpose.

Estimate of Burden: The public reporting burden for completing the SF 424, SF 424A, and the Proposal Narrative is estimated to average 33 hours per response.

Respondents: State departments of agriculture, State agricultural experiment stations, and other appropriate State Agencies.

Estimated Annual Number of Respondents: 40.

Estimated Annual Number of Responses per Respondent: 2.

Estimated Annual Number of Responses: 80.

Estimated Total Annual Burden on Respondents: 2,640 hours.

After approval of the grant application and before grant funds are dispersed, grantees must complete the following forms to certify compliance with applicable Federal regulations: Form SF-424B, “Assurances—Non-Construction Programs” (approved under OMB #0348-0040); AD-1047, Certification Regarding Debarment, Suspension, and Other Responsibility Matters—Primary Covered Transactions; AD-1048, Certification Regarding Debarment, Suspension, Ineligibility and Voluntary Exclusion—Lower Tier Covered Transactions; and AD-1049, Certification Regarding Drug-Free Workplace Requirements (Grants) Alternative 1—for Grantees Other Than Individuals.

In addition, four copies of the Grant Agreement must be signed with an original signature and dated once by grantees after their proposals have been approved and before grant funds are dispersed. The information will be used to affirm the award amount, time frame, objectives and work plan agreed upon by the grantee and USDA/AMS. The Grant Agreement also outlines responsibilities of both parties with regard to the grant.

Standard Form 270, Request for Advance or Reimbursement (approved under OMB #0348-0004), is completed whenever the grantee requests an advance or reimbursement of grant funds. The information will be used to keep track of grant disbursements and the level of matching funds expended by the grantee during the grant period. We expect that grantees will submit a total of three SF 270 forms during the grant period.

Estimate of Burden: The public reporting burden for completing the SF 424B, AD-1047, AD-1048, AD-1049, the Grant Agreement, and three SF 270 forms is estimated to average 22.6 hours per response.

Respondents: State departments of agriculture, State agricultural experiment stations, and other appropriate State Agencies.

Estimated Annual Number of Respondents: 25.

Estimated Annual Number of Responses per Respondent: 1.

Estimated Annual Number of Responses: 25.

Estimated Total Annual Burden on Respondents: 565 hours.

Progress Reports are required at the midpoint of projects approved for one year and at six-month intervals for projects of longer duration. Progress Reports should (1) briefly summarize activities performed and milestones achieved for each objective or sub-element of the narrative; (2) note unexpected delays or impediments as well as favorable or unusual developments; (3) outline work to be performed during the succeeding period; and (4) indicate the amount of grant and matching funds expended to date. We expect that grantees will submit a total of two Progress Reports during the grant period.

Estimate of Burden: The public reporting burden for two Progress Reports is estimated to average 14 hours per response.

Respondents: State departments of agriculture, State agricultural experiment stations, and other appropriate State Agencies.

Estimated Annual Number of Respondents: 25.

Estimated Annual Number of Responses per Respondent: 2.

Estimated Annual Number of Responses: 50.

Estimated Total Annual Burden on Respondents: 700 hours.

Not later than 90 days following the ending date of the Grant Agreement the grantee must submit Standard Form 269A, Financial Status Report (short form) (approved under OMB #0348-0038), or Standard Form 269, Financial Status Report (long form) (approved under OMB #0348-0039) to document the final financial status of the grant project and to indicate that the one-to-one matching requirement has been met. The grantee must also submit a Final Report of results and accomplishments within 90 days following the grant ending date. The Final Report will include:

• An outline of the issue or problem.

• How the issue or problem was approached via the project.

• Contribution of public or private agency cooperators.

• Results, conclusions and lessons learned.

• Current or future benefits to be derived from the project.

• Additional information available (publications, Web sites).

• Recommendations for future research needed, if applicable.

• Contact person for the project with telephone number and e-mail address.

Estimate of Burden: The public reporting burden for completing the SF 269A or SF 269, as appropriate, and the Final Report is estimated to average 32 hours per response.

Respondents: State departments of agriculture, State agricultural experiment stations, and other appropriate State agencies.

Estimated Annual Number of Respondents: 25.

Estimated Annual Number of Responses per Respondent: 1.

Estimated Annual Number of Responses: 25.

Estimated Total Annual Burden on the Respondents: 800 hours.

Comments are invited on: (1) Whether the new collection of information is necessary for the proper performance of the functions of the agency, including whether the information will have practical utility; (2) the accuracy of the agency's estimate of the burden of the new collection of information including the validity of the methodology and assumptions used; (3) ways to enhance the quality, utility, and clarity of the information to be collected; and (4) ways to minimize the burden of the collection of information on those who are to respond, including the use of appropriate automated, electronic, mechanical, or other technological collection techniques or other forms of information technology.

All comments concerning the information collection shall reference Docket No. TM-07-01, and the date and page number of this issue of the Federal Register. Comments concerning the information collection requirements should be sent to the office of Information and Regulatory Affairs, OMB: Attention: Desk Officer for AMS, Washington, DC 20503. Please state that your comments refer to Docket No. TM-07-01. Comments also may be sent to Janise Zygmont, Staff Officer, Federal-State Marketing Improvement Program, Agricultural Marketing Service (AMS), USDA, Room 4009-South, 1400 Independence Avenue, SW., Washington, DC 20250; phone 202/720-8043; and e-mail janise.zygmont@usda.gov. Comments received will be available for public inspection during regular business hours at the same address. All comments will become a matter of public record.

AMS is committed to complying with the E-Government Act, to promote the use of the Internet and other information technologies to provide increased opportunities for citizen access to Government information and services, and for other purposes. The two SF forms as well as the Proposal Narrative can be filled out electronically and printed out for submission or filled out electronically and submitted as an attachment through the http://www.grants.gov Web site with the Proposal Narrative.

How To Submit Proposals and Applications

Applicants have the option of submitting FSMIP applications electronically through the Federal grants Web site, http://www.grants.gov instead of mailing hard copy documents. Applicants considering the electronic application option are strongly urged to familiarize themselves with the Federal grants Web site well before the application deadline and to begin the application process before the deadline. Additional details about the FSMIP application process for all applicants are available at the FSMIP Web site: http://www.ams.usda.gov/tmd/fsmip.htm.

FSMIP is listed in the “Catalog of Federal Domestic Assistance” under number 10.156 and subject agencies must adhere to Title VI of the Civil Rights Act of 1964, which bars discrimination in all federally assisted programs.

Authority: 7 U.S.C. 1621-1627.

Dated: October 24, 2006.
Lloyd C. Day,
Administrator, Agricultural Marketing Service.

[FR Doc. E6-18040 Filed 10-26-06; 8:45 am]

BILLING CODE 3410-02-P